DEPARTMENT OF TRANSPORTATION

Federal Aviation Administration

14 CFR Part 39

[Docket No. 2001-NE-36-AD; Amendment 39-12735; AD 2002-09-02]

RIN 2120-AA64

Airworthiness Directives; Rolls-Royce plc. Tay Model 650-15 and 651-54 Turbofan Engines; Correction

AGENCY: Federal Aviation Administration, DOT.

ACTION: Final rule; correction.

SUMMARY: This document makes a correction to Airworthiness Directive (AD) 2002-09-02, applicable to Rolls-Royce plc. (RR) Tay Model 650-15 and 651-54 turbofan engines. AD 2002-09-02 was published in the Federal Register on May 2, 2002 (67 FR 21979). Note 3 in the Alternative Method of Compliance section is incorrect. This document corrects Note 3. In all other respects, the original document remains the same.

EFFECTIVE DATE: June 6, 2002.

FOR FURTHER INFORMATION CONTACT: Keith Mead, Aerospace Engineer, Engine Certification Office, FAA, Engine and Propeller Directorate, 12 New England Executive Park, Burlington, MA 01803-5299; telephone (781) 238-7744; fax (781) 238-7199.

SUPPLEMENTARY INFORMATION: A final rule airworthiness directive FR DOC. 02-10549, applicable to RR Tay Model 650-15 and 651-54 turbofan engines, was published in the Federal Register on May 2, 2002 (67 FR 21979). The following correction is needed:

§ 39.13 [Corrected]

On page 21981, in the first column, in AD 2002-09-02, in the ALTERNATIVE METHOD OF COMPLIANCE Section, “Note 3: These record keeping requirements apply only to the records used to document the mandatory inspections required as a result of revising the ALS and the MSS of the Instructions for Continued Airworthiness in the Time Limits Manual (Chapter 05-10-00) of the Engine Manuals as provided in paragraph (a) of this AD, and do not alter or amend the record keeping requirements for any other AD or regulatory requirement” is corrected to read “Note 3: The requirements of this AD have been met when the engine shop manual changes are made and air carriers have modified their continuous airworthiness maintenance plans to reflect the requirements in the engine shop manuals”.

Issued in Burlington, MA, on June 20, 2002.
Francis A. Favara,
Acting Manager, Engine and Propeller Directorate, Aircraft Certification Service.

[FR Doc. 02-16534 Filed 7-2-02; 8:45 am]

BILLING CODE 4910-13-P